DEPARTMENT OF ENERGY

Denver Regional Office; Solicitation for Financial Assistance Applications; Weatherization Training and Program Enhancement

AGENCY: U.S. Department of Energy.

ACTION: Solicitation for financial assistance applications, solicitation number DE-PS48-00R810686.

SUMMARY: The U.S. Department of Energy (DOE), pursuant to the DOE Financial Assistance Rules, 10 CFR 600.8, is announcing its intention to solicit applications for a state sponsor for Weatherization Training and Program Enhancement activities to be conducted for the Weatherization Assistance Program (WAP) in the Denver Region. The financial assistance award issued under this Solicitation will be a cooperative agreement.

DATES: The solicitation will be issued on or about May 31, 2000.

ADDRESSES: Copies of the Solicitation, once issued, can be obtained from the Golden Field Office Home page at http://www.eren.doe.gov/golden/solicitations.html. DOE does not intend to issue written copies of the solicitation.

SUPPLEMENTARY INFORMATION: DOE is soliciting Applications for a state sponsor for Weatherization Training and Program Enhancement activities to be conducted for the Weatherization Assistance Program (WAP) in the Denver Region. Eligibility is restricted to the twelve states within DOE's Denver Region. The selected applicant (hereinafter called recipient) will receive financial assistance to administer training and other activities that assist with the enhancement and advancement of the WAP under a cooperative agreement with the DOE. It is anticipated that one award will result from this solicitation. Under the cooperative agreement, the recipient will have primary responsibility for providing training and technical development activities that are intended to improve the depth, knowledge and the caliber of technical skills of grantees and subgrantees administering the DOE WAP in the Denver Region. It is expected that the recipient will coordinate and work in conjunction with Weatherization organizations within the region that specialize in the delivery of training and enhancement-type activities, such as the Weatherization Manager's Association (WMA), and other technical skills training organizations.

The recipient will conduct solicitations for WAP projects in the region, coordinate the selection process for subgrants, and oversee the management and monitoring of training and enhancement projects. The recipient will also ensure that information about the projects, through reports and minutes of informational meetings, are developed and distributed. It is estimated that $100,000 will be made available for the initial award in Fiscal Year 2000, and DOE anticipates that up to $750,000 may be made available over the five-year project period, depending upon availability of funding.

FOR FURTHER INFORMATION, CONTACT: Dennis D. Maez, Contract Specialist, at (303) 275-4825, or send an e-mail to dennis_maez@nrel.gov.

Issued in Golden, Colorado, on May 26, 2000.
Jerry L. Zimmer,
Procurement Director, GO.

[FR Doc. 00-14323 Filed 6-6-00; 8:45 am]

BILLING CODE 6450-01-P